NATIONAL AERONAUTICS AND SPACE ADMINISTRATION

[Notice 01-091]

Aerospace Safety Advisory Panel (ASAP); Meeting

AGENCY: National Aeronautics and Space Administration.

ACTION: Closed meeting notice.

SUMMARY: In accordance with the Federal Advisory Committee Act, Pub. L. 92-463, as amended, the National Aeronautics and Space Administration announces a forthcoming meeting of the Aerospace Safety Advisory Panel.

DATES: Friday, August 3, 2001, 10 a.m. to 12 Noon.

ADDRESSES: National Aeronautics and Space Administration, 300 E Street, SW., Room 5W40, Washington, DC 20546.

FOR FURTHER INFORMATION CONTACT: Mr. David M. Lengyel, Executive Director ASAP, Code Q-1, National Aeronautics and Space Administration, Washington, DC 20546, Tel: (202) 358-0391 or E-mail: dlengyel@hq.nasa.gov.

Background Information

The Aerospace Safety Advisory Panel (ASAP) will meet to review the adequacy of NASA plans for Orbiter structural inspections. This is pursuant to carrying out ASAP's statutory duties where the Panel reviews, identifies, evaluates, and advises on those program activities, systems, procedures, and management activities that can contribute to program risk. In making recommendations on this issue, the Agency requires full and frank advice on NASA contractor's workforce issues, inspector skill base, and work paper quality. Premature disclosure of such information would be likely to significantly frustrate the Agency's planning and conduct of Orbiter structural inspections. For these reasons, this meeting will be closed to the public in accordance with 5 U.S.C. Section 552b(c)(9)(B).

Dated: July 23, 2001.
Beth M. McCormick,
Advisory Committee Management Officer, National Aeronautics and Space Administration.

[FR Doc. 01-18735 Filed 7-26-01; 8:45 am]

BILLING CODE 7510-01-P